DEPARTMENT OF HOUSING AND URBAN DEVELOPMENT

[Docket No. FR-5223-C-03]

Final Fair Market Rents for Fiscal Year 2009 for the Housing Choice Voucher Program and Moderate Rehabilitation Single Room Occupancy Program: Technical Correction

AGENCY: Office of the Assistant Secretary for Policy Development and Research, HUD.

ACTION: Notice of Final Fair Market Rents (FMRs) for Fiscal Year (FY) 2009, technical correction.

SUMMARY: On September 29, 2008, the Department published its FY2009 Final FMRs for the Housing Choice Voucher Program and Moderate Rehabilitation Single Room Occupancy Program. In that notice, HUD incorrectly identified Schedule B as proposed FY2009 FMRs when the rents published were in fact the final FY2009 Final FMRs. Today's Federal Register notice corrects the title of Schedule B to “FY2009 Final Fair Market Rents For Existing Housing.”

DATES: Effective Date: October 1, 2008.

FOR FURTHER INFORMATION CONTACT: For technical information on the methodology used to develop FMRs or a listing of all FMRs, please call the HUD USER information line at 800-245-2691 or access the information at the following link on the HUD Web site: http://www.huduser.org/datasets/fmr.html. Any questions related to use of FMRs or voucher payment standards should be directed to the respective local HUD program staff. Questions on how to conduct FMR surveys or further methodological explanations may be addressed to Marie L. Lihn or Lynn A. Rodgers, Economic and Market Analysis Division, Office of Economic Affairs, Office of Policy Development and Research, telephone number 202-708-0590. Persons with hearing or speech impairments may access this number through TTY by calling the toll-free Federal Information Relay Service at 800-877-8339. (Other than the HUD USER information line and TTY numbers, telephone numbers are not toll-free.)

SUPPLEMENTARY INFORMATION: On September 29, 2008 (73 FR 56638), the Department published its FY2009 Final Fair Market Rents for the Housing Choice Voucher Program and Moderate Rehabilitation Single Room Occupancy Program. As required by section 8(c)(1) of the United States Housing Act of 1937, the September 29, 2008, notice provided final FY2009 FMRs for all areas that reflect the estimated 40th and 50th percentile rent levels trended to April 1, 2009, using the 2006 American Community Survey data, and more recent Consumer Price Index rent and utility indexes. In that notice, HUD incorrectly identified Schedule B as proposed FY2009 FMRs when the rents published were in fact the final FY2009 Final FMRs. To avoid any confusion, the Department is publishing today's notice to correct the title of Schedule B to “FY2009 Final Fair Market Rents for Existing Housing.” Only the title of the Schedule B is changed by today's notice: the FMRs published on September 29, 2008, are the final FY2009 FMRs.

Correction

Accordingly, the document published on September 29, 2008 (73 FR 56638) is corrected to change the title of all pages of the table in Schedule B to “FY2009 Final Fair Market Rents For Existing Housing”.

Dated: October 21, 2008.
Kurt G. Usowski,
Deputy Assistant Secretary for Economic Affairs.

[FR Doc. E8-25570 Filed 10-27-08; 8:45 am]

BILLING CODE 4210-67-P